DEPARTMENT OF ENERGY

Federal Energy Regulatory Commission

[Docket No. CP06-428-000]

Panhandle Eastern Pipeline Company, LP; Notice of Intent To Prepare an Environmental Assessment for the Proposed Tuscola East Project and Request for Comments on Environmental Issues and Notice of Scoping Meeting

October 11, 2006.

The staff of the Federal Energy Regulatory Commission (FERC or Commission) will prepare an environmental assessment (EA) that will discuss the environmental impacts of Panhandle Eastern Pipeline Company, LP's (Panhandle) planned Tuscola East Project located in Douglas County, Illinois and Parke, Marion, Boone, and Hamilton Counties, Indiana.¹ This notice announces the opening of the scoping process we will use to gather input from the public and interested agencies on the project. Your input will help the Commission staff determine which issues need to be evaluated in the EA. Please note that the scoping period will close on November 13, 2006.

¹ Panhandle's application was filed with the Commission under section 7 of the Natural Gas Act and Part 157 of the Commission's regulations.

Comments may be submitted in written form or presented verbally at the public meeting detailed below. Further details on how to submit written comments are provided in the public participation section of this notice. In lieu of sending written comments, you are invited to attend the public scoping meeting that is scheduled as follows:

Tuscola East Project

Tuesday—October 24, 2006, 7 p.m. (EST), VFW in Noblesville, 654 S 9th Street, Noblesville IN 46060. (317) 770-3954.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Panhandle provided to landowners. This fact sheet addresses a number of typically asked questions, including the use of eminent domain and how to participate in the Commission's proceedings. It is available for viewing on the FERC Internet Web site (http://www.ferc.gov).

Summary of the Proposed Project

Due to the age of Panhandle's existing line and the Department of Transportation's Integrity Management Plan regulations, Panhandle reduced the operating pressure on one line by 20 percent in 2004. Additional measures to mitigate risk for High Consequence Areas must be implemented by end of 2011. Panhandle's project purpose is to restore long-haul transportation capacity from Tuscola heading east to Michigan by replacing the existing diameter pipeline with larger diameter pipeline. In general, these facilities would consist of replacing about 31.3 miles of pipeline consisting of three segments and abandoning in place or by removal the existing 29.4 miles of pipelines that correspond with the new replacement lines. Specifically, the project includes:

• Tuscola 100-Line (Douglas County, IL)—Replacing 6.7 miles of existing 100-Line 20-inch diameter pipeline with 36-inch diameter pipeline, designating the new pipeline as the 500-Line, and installing a new pig launcher/receiver;

• Tuscola 200-Line (Douglas County, IL)—Replacing 1.9 miles of the existing 200-Line 36-inch diameter pipeline with 20-inch diameter pipeline (the 1.9 miles of 36-inch pipeline replaced would be used for the new 500-Line);

• Montezuma 100-Line (Parke County, IN)—Replacing 6.6 miles of the existing 100-Line 20-inch diameter pipeline with 36-inch diameter pipeline, designating the new pipeline as the 500-Line, and installing a new pig launcher/receiver; and

• Zionsville 200-Line (Marion, Boone, and Hamilton Counties, IN)—Replacing 18.0 miles of the existing 200-Line 24-inch diameter pipeline with 30-inch diameter pipeline, designating the new pipeline as the 500-Line, and installing a new pig launcher/receiver.

The majority of all segments to be replaced would be abandoned by removal, and at stream, wetland, pipeline crossovers, and uncased road crossing the pipeline would be abandoned in place. Also 16 taps would be disconnected from the 100 and 200-Lines and reconnection to the nearest adjacent lines would be required in order to continue providing service. The general locations of the project facilities are shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary, refer to the last page of this notice. Copies of the appendices were sent to all those receiving this notice in the mail.

Land Requirements for Construction

Panhandle proposes to use a 125-foot wide right-of-way, which would overlap its existing permanent right-of-way. However, a temporary construction right-of-way may be required. Panhandle would first install the new 500-Line along each segment, and then remove the 100- and 200-Lines from their respective rights-of-way. The new 500-Line would be installed within the existing rights-of-way of each segment with a 25-foot offset from the existing mainlines. Construction of the proposed facilities would require about 546.6 acres of land. Following construction, about 204.8 acres would be maintained as permanent easement or aboveground facility sites as part of Panhandle's existing permanent rights-of-way. No additional permanent rights-of-way would be required because the proposed project would be operated within existing Panhandle rights-of-way. The remaining 341.8 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we ³ will discuss impacts that could occur as a result of the construction and operation of the proposed project under these general headings:

³ ”We”, “us”, and “our” refer to the environmental staff of the Office of Energy Projects (OEP).

• Geology and soils.

• Land use.

• Water resources, fisheries, and wetlands.

• Cultural resources.

• Vegetation and wildlife.

• Air quality and noise.

• Endangered and threatened species.

• Hazardous waste.

• Public safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Panhandle. This preliminary list of issues may be changed based on your comments and our analysis.

Project-related impact on:

• Threatened and Endangered Species;

• Noise impacts from construction activities and operations

• Pipeline Safety and reliability; and

• Residences or structures within 50 feet of the construction work space.

Public Participation

You can make a difference by providing us with your specific comments or concerns about the project. By becoming a commentor, your concerns will be addressed in the EA and considered by the Commission. You should focus on the potential environmental effects of the proposal, alternatives to the proposal (including alternative locations and/or routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP06-428-000.

• Mail your comments so that they will be received in Washington, DC on or before November 13, 2006.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 2). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-17199 Filed 10-16-06; 8:45 am]

BILLING CODE 6717-01-P